DEPARTMENT OF TRANSPORTATION

Federal Aviation Administration

14 CFR Part 39

[Docket No. FAA-2012-0300; Directorate Identifier 2011-NM-276-AD; Amendment 39-17086; AD 2012-12-06]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.28 Mark 0070 and 0100 airplanes. This AD was prompted by a design review which revealed the absence of electrical insulation material between a wing or integral center wing tank (ICWT) fuel quantity indication system (FQIS) probe and the bottom of the tank structure. This AD requires for all airplanes, applying sealant below the FQIS probes in the wing tanks; and for certain airplanes, applying sealant below the FQIS probes in the ICWT. This AD also requires revising the aircraft maintenance program by revising the fuel airworthiness limitations and incorporating critical design configuration control limitations (CDCCLs). We are issuing this AD to prevent an ignition source in the tank vapor space, which could result in a fuel tank explosion and consequent loss of the airplane.

DATES: This AD becomes effective July 30, 2012.

The Director of the Federal Register approved the incorporation by reference of a certain publication listed in this AD as of July 30, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 27, 2012 (77 FR 18141). That NPRM proposed to correct an unsafe condition for the specified products. The MCAI states:

[T]he FAA published Special Federal Aviation Regulation (SFAR) 88, and the Joint Aviation Authorities (JAA) published Interim Policy INT/POL/25/12. The design review conducted by Fokker Services on the Fokker 70 and Fokker 100 in response to these regulations revealed that the absence of electrical insulation material between a wing or Integral Center Wing Tank (ICWT) Fuel Quantity Indication System (FQIS) probe and the bottom of the tank structure could, under certain conditions, result in an ignition source in the tank vapour space.

This condition, if not corrected, could result in a fuel tank explosion and consequent loss of the aeroplane.

For the reasons described above, this [EASA] AD requires the application of sealant below the FQIS probes in the wing tanks and below the FQIS probes in the ICWT, as applicable to aeroplane configuration. * * *

The corrective actions also include revising the aircraft maintenance program by revising the fuel airworthiness limitations and incorporating CDCCLs. You may obtain further information by examining the MCAI in the AD docket.

Comments

We gave the public the opportunity to participate in developing this AD. We received no comments on the NPRM (77 FR 18141, March 27, 2012) or on the determination of the cost to the public.

Conclusion

We reviewed the available data and determined that air safety and the public interest require adopting the AD as proposed except for minor editorial changes. We have determined that these minor changes:

• Are consistent with the intent that was proposed in the NPRM (77 FR 18141, March 27, 2012) for correcting the unsafe condition; and

• Do not add any additional burden upon the public than was already proposed in the NPRM (77 FR 18141, March 27, 2012).

Costs of Compliance

We estimate that this AD will affect 4 products of U.S. registry. We also estimate that it will take about 8 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $2,720, or $680 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 18141, March 27, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-12-06 Fokker Services B.V.: Amendment 39-17086. Docket No. FAA-2012-0300; Directorate Identifier 2011-NM-276-AD.

(a) Effective Date

This airworthiness directive (AD) becomes effective July 30, 2012.

(b) Affected ADs

None.

(c) Applicability

(1) This AD applies to Fokker Services B.V. Model F.28 Mark 0070 and 0100 airplanes, certificated in any category, all serial numbers.

(2) This AD requires revisions to certain operator maintenance documents to include new actions (e.g., inspections) and/or critical design configuration control limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (j)(1) of this AD. The request should include a description of changes to the required actions that will ensure the continued operational safety of the airplane.

(d) Subject

Air Transport Association (ATA) of America Code 28: Fuel.

(e) Reason

This AD was prompted by a design review which revealed the absence of electrical insulation material between a wing or integral center wing tank (ICWT) fuel quantity indication system (FQIS) probe and the bottom of the tank structure. We are issuing this AD to prevent an ignition source in the tank vapor space, which could result in a fuel tank explosion and consequent loss of the airplane.

(f) Compliance

You are responsible for having the actions required by this AD performed within the compliance times specified, unless the actions have already been done.

(g) Sealant Application

Do the actions specified in paragraphs (g)(1) and (g)(2) of this AD, as applicable.

(1) For all airplanes: At a scheduled opening of the fuel tanks, but not later than 84 months after the effective date of this AD, apply sealant below the probes in the wing tanks, in accordance with Part 1 of the Accomplishment Instructions of Fokker Service Bulletin SBF100-28-067, dated September 2, 2011, including Fokker Manual Change Notification—Maintenance Documentation MCNM-F100-144, dated September 2, 2011.

(2) For airplanes having serial numbers 11442 through 11585 inclusive, and equipped with an ICWT: At a scheduled opening of the fuel tanks, but not later than 84 months after the effective date of this AD, apply sealant below the probes in the ICWT, in accordance with Part 2 of the Accomplishment Instructions of Fokker Service Bulletin SBF100-28-067, dated September 2, 2011, including Fokker Manual Change Notification—Maintenance Documentation MCNM-F100-144, dated September 2, 2011.

(h) Maintenance Program Revision

Before further flight after doing any action required by paragraph (g) of this AD, revise the aircraft maintenance program by incorporating the fuel airworthiness limitation and the CDCCL specified in paragraph 1.L.(1)(c) of Fokker Service Bulletin SBF100-28-067, dated September 2, 2011, including Fokker Manual Change Notification—Maintenance Documentation MCNM-F100-144, dated September 2, 2011.

(i) No Alternative Actions, Intervals, and/or CDCCLs

After accomplishing the revision required by paragraph (h) of this AD, no alternative actions (e.g., inspections), intervals, or CDCCLs may be used unless the actions, intervals, or CDCCLs are approved as an alternative method of compliance (AMOC) in accordance with the procedures specified in paragraph (j)(1) of this AD.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0227, dated December 6, 2011; and Fokker Service Bulletin SBF100-28-067, dated September 2, 2011, including Fokker Manual Change Notification—Maintenance Documentation MCNM-F100-144, dated September 2, 2011; for related information.

(l) Material Incorporated by Reference

(1) The Director of the Federal Register approved the incorporation by reference (IBR) of the following service information under 5 U.S.C. 552(a) and 1 CFR part 51.

(2) You must use the following service information to do the actions required by this AD, unless the AD specifies otherwise.

(i) Fokker Service Bulletin SBF100-28-067, dated September 2, 2011, including Fokker Manual Change Notification—Maintenance Documentation MCNM-F100-144, dated September 2, 2011.

(3) For service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on June 7, 2012.
Michael Kaszycki,
Acting Manager, Transport Airplane Directorate, Aircraft Certification Service.

[FR Doc. 2012-14547 Filed 6-22-12; 8:45 am]

BILLING CODE 4910-13-P